DEPARTMENT OF JUSTICE

Notice of Lodging of Consent Decree Under the Clean Water Act and the Comprehensive Environmental Response, Compensation and Liability Act

Notice is hereby given that on February 28, 2006, a proposed decree in United States, the State of West Virginia, and the State of Ohio v. Elkem Metals Company L.P., Ferro Invest III Inc., Ferro Invest II LLC, and Erament Marietta Inc., Civil Action No. 2:03-CV-529, was lodged with the United States District Court for the Southern District of Ohio.

In this action, the United States sought injunctive relief and civil penalties under Section 309(b) and (d) of the Clean Water Act (“CWA”), 33 U.S.C. 1319(b) and (d), against Elkem Metals Company L.P., its two general partners, and Eramet Marietta Inc. for violations of Section 301 of the Act, 33 U.S.C. 1311, and the terms and conditions of the National Pollutant Discharge Elimination System (“NPDES”) permit for the Marietta, Ohio, ferro-alloy manufacturing facility formerly owned by Elkem Metals and now owned by Eramet Marietta. In addition, the United States, the State of West Virginia, and the State of Ohio, as trustees for natural resources, sought damages from the Defendants for injury to natural resources resulting from wastewater discharges from the Marietta, Ohio, facility, under section 107(a) of the Comprehensive Environmental Response, Compensation and Liability Act (“CERCLA”), 42 U.S.C. 9607(a).

Under the proposed Consent Decree, Defendants would pay a total of $3.25 million to resolve the various claims: $2,040,000 will be paid into the Department of the Interior's Natural Resources Damage Assessment and Restoration Fund to pay for restoration projects; $427,500 will be paid to DOI for past assessment costs; $32,500 will be paid to the State of Ohio for past assessment costs; $225,000 will be paid by Elkeem Metals as a civil penalty for its CWA violations; and $525,000 will be paid by Eramet Marietta as a civil penalty for its CWA violations.

The Department of Justice will receive, for a period of thirty (30) days from the date of this publication, comments relating to the proposed consent decree. Comments should be addressed to the Assistant Attorney General, Environment and Natural Resources Division, P.O. Box 7611, U.S. Department of Justice, Washington, DC 20044-7611, and should refer to United States, et al., v. Elkem Metals, et al., DOJ Ref. # 90-5-1-07310.

The proposed consent decree may be examined at the office of the United States Attorney for the Southern District of Ohio, 303 Marconi Blvd., Suite 200, Columbus, OH 43215, and at U.S. EPA Region 5, 77 West Jackson Boulevard, Chicago, IL 60604. During the public comment period, the consent decrees may also be examined on the following Department of Justice Web site, http://www.usdoj.gov/enrd/open.html. A copy of the Consent Decree may also be obtained by mail from the Consent Decree Library, P.O. Box 7611, U.S. Department of Justice, Washington, DC 20044-7611, or by faxing a request to Tonia Fleetwood, fax no. (202) 514-0097, phone confirmation number (202) 514-1547. In requesting a copy, please refer to the referenced case and enclose a check in the amount of $5.75 (25 cents per page reproduction costs), payable to the U.S. Treasury.

William D. Brighton,
Assistant Chief, Environmental Enforcement Section, Environment and Natural Resources Division.

[FR Doc. 06-2200 Filed 3-8-06; 8:45 am]

BILLING CODE 4410-15-M